FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act.

SUMMARY: The FDIC, as part of its continuing effort to reduce paperwork and respondent burden, invites the general public and other Federal agencies to take this opportunity to comment on renewal of an existing information collection, as required by the Paperwork Reduction Act of 1995 (4 U.S.C. chapter 35). On December 1, 2009 (74 FR 62776), the FDIC solicited public comment for a 60-day period on renewal of its “Qualifications for Failed Bank Acquisitions” information collection (OMB No. 3064-0169), currently approved under OMB emergency clearance procedures. No comments were received. Therefore, the FDIC hereby gives notice of its submission of the information collection to OMB for review under normal clearance procedures.

DATES: Comments must be submitted on or before March 10, 2010.

ADDRESSES: Interested parties are invited to submit written comments to the FDIC by any of the following methods. All comments should refer to the name of the collection:

• http://www.FDIC.gov/regulations/laws/federal/notices.html.

• E-mail: comments@fdic.gov Include the name of the collection in the subject line of the message.

• Mail: Leneta G. Gregorie (202-898-3719), Counsel, Room F-1064, Federal Deposit Insurance Corporation, 550 17th Street, NW., Washington, DC 20429.

• Hand Delivery: Comments may be hand-delivered to the guard station at the rear of the 17th Street Building (located on F Street), on business days between 7 a.m. and 5 p.m.

A copy of the comments may also be submitted to the OMB desk officer for the FDIC: Office of Information and Regulatory Affairs, Office of Management and Budget, New Executive Office Building, Washington, DC 20503.

FOR FURTHER INFORMATION CONTACT: Leneta G. Gregorie at the address identified above.

SUPPLEMENTARY INFORMATION:

Request To Obtain Full Clearance of the Following Collection of Information Currently Approved on an Emergency Basis

Title: Qualifications for Failed Bank Acquisitions.

OMB Number: 3064-0169.

Estimated Number of Respondents

Investor reports on affiliates—20.

Maintenance of business books and records—5.

Disclosures regarding investors and entities in ownership chain—20.

Frequency of Response

Investor reports on affiliates—12.

Maintenance of business books and records—4.

Disclosures regarding investors and entities in ownership chain—4.

Affected Public: Private capital investors seeking to acquire assets and/or liabilities of failed insured depository institutions.

Estimated Time per Response

Investor reports on affiliates—2 hours.

Maintenance of business books and records—2 hours.

Disclosures regarding investors and entities in ownership chain—4 hours.

Total Annual Burden: 840 hours.

General Description of Collection: This collection includes reporting, recordkeeping, and disclosure requirements for private capital investors that propose to acquire, directly or indirectly, the deposit liabilities and or such liabilities and assets from the resolution of a failed insured depository institution or for applicants of deposit insurance in the case of de novo charters issued in connection with the resolution of failed insured depository institutions (Investors). The information sought from these Investors will provide greater transparency to the FDIC about their business models, capital structures, management, interaction with related parties, and other interests of Investors involved in the acquisition of deposit liabilities or liabilities and assets from troubled insured depository institutions.

Request for Comment

Comments are invited on: (a) Whether this collection of information is necessary for the proper performance of the FDIC's functions, including whether the information has practical utility; (b) the accuracy of the estimates of the burden of the information collection, including the validity of the methodologies and assumptions used; (c) ways to enhance the quality, utility, and clarity of the information to be collected; and (d) ways to minimize the burden of the information collection on respondents, including through the use of automated collection techniques or other forms of information technology.

All comments will become a matter of public record.

Dated at Washington, DC this 2nd day of February, 2010.
Federal Deposit Insurance Corporation.
Valerie Best,
Assistant Executive Secretary.

[FR Doc. 2010-2576 Filed 2-5-10; 8:45 am]

BILLING CODE 6714-01-P